DEPARTMENT OF TRANSPORTATION

Federal Highway Administration

Notice To Rescind a Notice of Intent To Prepare an Environmental Impact Statement on Seattle Ferry Terminal (Colman Dock) in Seattle, WA

AGENCY: Federal Highway Administration (FHWA) and Federal Transit Administration (FTA), Department of Transportation.

ACTION: Notice to rescind a notice of intent to prepare an environmental impact statement.

SUMMARY: The Federal Transit Administration and Federal Highway Administration, in cooperation with the Washington State Department of Transportation, Ferries Division (WSF), are rescinding the Notice of Intent (NOI) to prepare an Environmental Impact Statement (EIS) that had been proposed to improve the ferry facilities at Seattle Ferry Terminal (Colman Dock) in Seattle, Washington. That NOI was published in the Federal Register on March 17, 2006, at 71 FR 13892.

FOR FURTHER INFORMATION CONTACT: Pete Jilek, Urban Area Engineer, Federal Highway Administration, Washington Division, at (360) 753-9550; Daniel Drais, Environmental Protection Specialist, Federal Transit Administration, Region 10, at (206) 220-4465.

SUPPLEMENTARY INFORMATION: After a lengthy cessation of work on the project described in the NOI found at 71 FR 13892, WSF reconsidered the project's purpose and need and the available resources. WSF has concluded the project it intended to pursue in 2006 will not be carried out in the foreseeable future. As such, the NOI is being rescinded.

Issued On: February 3, 2011.
Peter A. Jilek,
Urban Area Engineer.

[FR Doc. 2011-2830 Filed 2-9-11; 8:45 am]

BILLING CODE 4910-22-P